DEPARTMENT OF TRANSPORTATION

Federal Aviation Administration

Public Notice for Waiver of Aeronautical Land Use Assurance; Arlington Municipal Airport, Arlington, WA

AGENCY: Federal Aviation Administration, (FAA), DOT.

ACTION: Notice.

SUMMARY: Notice is being given that the FAA is considering a proposal from the City of Arlington Airport Director to change certain portions of the airport from aeronautical use to non-aeronautical use at Arlington Municipal Airport, Arlington, WA. The proposal consists of 292.35 acres identified on the Airport Layout Plan as the Airport Business Park and the Airport Industrial Park.

DATES: Comments are due within 30 days of the date of the publication of this notice in the Federal Register. Written comments can be provided to Ms. Cayla D. Morgan, Environmental Protection Specialist, Seattle Airports District Office, 2220 S 216th Street, Des Moines, WA 98198, (206) 231-4130.

FOR FURTHER INFORMATION CONTACT: Mr. David M. Ryan, Airport Director, City of Arlington, 18204 59th Avenue NE, Arlington, WA 98223; or Ms. Cayla D. Morgan, Environmental Protection Specialist, Seattle Airports District Office, 2220 S 216th Street, Des Moines, WA 98198, (206) 231-4130. Documents reflecting this FAA action may be reviewed at the above locations.

SUPPLEMENTARY INFORMATION: Under the provisions of Title 49, U.S.C. 47153(c), and 47107(h)(2), the FAA is considering a proposal from the Airport Director, City of Arlington, to change a portion of the Arlington Municipal Airport from aeronautical use to non-aeronautical use. The Airport Industrial Park on the east side of the airfield consists of light industrial manufacturing, office and storage uses. The area has nearly reached full build out and any future use will remain the same. The Airport Business Park located on the west side of the airfield which only has two existing facilities will be developed for light industrial manufacturing, clean technology, corporate offices, and retail along the southern boarder adjacent to State Route 531.

The lease revenue associated with this property will be used to fund airport projects and operating expenses. The FAA concurs that the parcels are no longer needed for aeronautical purposes. The proposed use of this property is compatible with other airport operations in accordance with FAA's Policy and Procedures Concerning the Use of Airport Revenue, published in Federal Register on February 16, 1999.

Issued in Des Moines, Washington on March 30, 2020.
Joelle Briggs,
Manager, Seattle Airports District Office.

[FR Doc. 2020-07101 Filed 4-3-20; 8:45 am]

BILLING CODE 4910-13-P